DEPARTMENT OF LABOR

Employment and Training Administration

[TA-W-55,462]

International Textile Group, Burlington Industries V, LLC, Burlington Apparal Fabric Including Leased Workers of Staffing Alliance, Raeford, NC; Amended Certification Regarding Eligibility To Apply for Worker Adjustment Assistance

In accordance with section 223 of the Trade Act of 1974 (19 U.S.C. 2273) the Department of Labor issued a Certification of Eligibility to Apply for Worker Adjustment Assistance and Alternative Trade Adjustment Assistance on September 13, 2004, applicable to workers of International Textile Group, Burlington Apparel Fabric, including leased workers of Staffing Alliance, Raeford, North Carolina. The notice was published in the Federal Register on October 8, 2004 (69 FR 60427).

At the request of the State agency, the Department reviewed the certification for workers of the subject firm. The workers are engaged in the production of yarn and wool.

New information shows that some workers separated from employment at the subject firm had their wages reported under a separate unemployment insurance (UI) tax account for Burlington Industries V, LLC.

Accordingly, the Department is amending the certification to properly reflect this matter.

The intent of the Department's certification is to include all workers of International Textile Group, Burlington Apparel Fabric, including leased workers of Staffing Alliance, Raeford, North Carolina, who were adversely affected by a shift in production to China and Taiwan.

The amended notice applicable to TA-W-55,462 is hereby issued as follows:

All workers of International Textile Group, Burlington Industries V, LLC, Burlington Apparel Fabric, Raeford, North Carolina and leased workers of Staffing Alliance, Raeford, North Carolina, who became totally or partially separated from employment on or after August 16, 2003, through September 13, 2006, are eligible to apply for adjustment assistance under section 223 of the Trade Act of 1974, and are also eligible to apply for alternative trade adjustment assistance under Section 246 of the Trade Act of 1974.

Signed at Washington, DC this 13th day of October 2004.
Linda G. Poole,
Certifying Officer, Division of Trade Adjustment Assistance.

[FR Doc. E4-2813 Filed 10-22-04; 8:45 am]

BILLING CODE 4510-30-P